DEPARTMENT OF ENERGY

Federal Energy Regulatory Commission

[Docket No. RP00-83-006]

Texas Gas Transmission Corporation; Notice of Filing of Pro Forma Tariff Sheets

November 22, 2000.

Take notice that on November 21, 2000, Texas Gas Transmission Corporation (Texas Gas) tendered for filing, as part of its FERC Gas Tariff, First Revised Volume No. 1, the following pro forma tariff sheets to become effective January 14, 2000:

First Revised Sheet No. 79

Original Sheet No. 80

Original Sheet No. 80G

Original Sheet No. 80H

On November 29, 1999, Texas Gas filed proposed tariff sheets to establish a new Summer No-Notice Service (SNS). The Commission Order issued January 12, 2000, suspended the effective date of those tariff sheets until June 14, 2000, subject to refund, the conditions set forth within the Order, and the outcome of a technical conference. The pro forma tariff sheets submitted herein reflect changes to the SNS Rate Schedule, which Texas Gas agreed to as a result of the recent technical conference. Texas Gas also requests withdrawal of the tariff sheets that were filed on March 10, 2000, in Docket No. RP00-83-002 and noticed by the Commission on March 15, 2000. The pro forma tariff sheets will replace and reflect the identical revisions previously filed on March 10, 2000.

Texas Gas states that copies of the revised tariff sheets are being mailed to all parties on the Commission's official service list as well as to Texas Gas's jurisdictional customers and interested state commissions.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance). Comments and protests may be filed electronically via the internet in lieu of paper. See, 18 CFR 385.2001(a)(1)(iii) and the instructions on the Commission's web site at http://www.ferc.fed.us/efi/doorbell.htm.

David P. Boergers,
Secretary.

[FR Doc. 00-30352 Filed 11-28-00; 8:45 am]

BILLING CODE 6717-01-M